DEPARTMENT OF THE INTERIOR

Bureau of Land Management

[19X.LLAK930000.L13100000.EI0000.241A]

Call for Nominations and Comments for the National Petroleum Reserve in Alaska 2019 Oil and Gas Lease Sale

AGENCY: Bureau of Land Management, Interior.

ACTION: Notice.

SUMMARY: The Bureau of Land Management (BLM) Alaska State Office is issuing a call for nominations and comments on all available unleased tracts for the upcoming National Petroleum Reserve—Alaska (NPR-A) 2019 Oil and Gas Lease Sale.

DATES: BLM Alaska must receive all nominations and comments on these tracts for consideration on or before July 22, 2019.

ADDRESSES: Mail nominations and/or comments to: State Director, Bureau of Land Management, Alaska State Office, 222 West 7th Avenue, #13, Anchorage, AK 99513-7504.

FOR FURTHER INFORMATION CONTACT: Wayne Svejnoha, BLM Alaska Energy and Minerals Branch Chief, 907-271-4407. People who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The BLM is issuing this call for nominations and comments on all available tracts within the NPR-A for leasing under the upcoming NPR-A Oil and Gas Lease Sale, pursuant to 43 CFR 3131.2. To identify tracts to nominate for leasing, or to provide comments, please use the following: (a) NPR-A maps, (b) legal descriptions of the tracts, and (c) any additional information available through the BLM Alaska website at https://www.blm.gov/programs/energy-and-minerals/oil-and-gas/leasing/regional-lease-sales/alaska. The BLM also requests comments on tracts that should receive special consideration or analysis.

Before including your address, phone number, email address, or other personal identifying information in your nominations and/or comments, you should be aware that your entire comment—including your personal identifying information—may be made publicly available at any time. While you can ask us in your comment to withhold your personal identifying information from public review, we cannot guarantee that we will be able to do so.

Chad B. Padgett,
State Director, Alaska.

[FR Doc. 2019-13095 Filed 6-19-19; 8:45 am]

BILLING CODE 4310-JA-P